Proclamation 7471 of September 28, 2001

National Hispanic Heritage Month, 2001

By the President of the United States of America

A Proclamation

For more than 30 years, the United States has annually celebrated the rich history and cultural traditions of our Nation's Hispanic American people. National Hispanic Heritage Month provides us an opportunity to express deep appreciation to Hispanic Americans for their countless contributions to our society and to pay tribute again to America's distinctive diversity.

Since our Nation's founding, Hispanic Americans have played an integral role in our country's exceptional story of success. Hispanic Americans served with heroism in every major American military conflict. The Continental Army benefited from the valor of Bernardo de Gálvez, who led his frequently outnumbered troops to numerous victories against the British. Luis Esteves organized the first Puerto Rico National Guard and rose through the ranks of the U.S. Army to become a distinguished Brigadier General. And 38 Hispanics have earned our Nation's highest military decoration, the Medal of Honor. The United States academic and scientific communities benefited from the contributions of Hispanic Americans like physicist Luis Walter Alvarez, who was awarded the Nobel Prize in Physics in 1986. Business leaders like Roberto Goizueta have had a positive effect on our Nation's economy; and many Hispanics have greatly influenced America's artistic, legal, and political communities.

Today, Hispanic culture continues to shape the American experience. More than 30 million Americans, about 1 in 8 people in the United States, claim Hispanic origin. They contribute to every walk of contemporary American life, while simultaneously preserving the unique customs and traditions of their ancestors. All Americans, regardless of national origin, celebrate the vibrant Hispanic American spirit that influences our Nation's art, music, food, and faiths. We also celebrate the practices of commitment to family, love of country, and respect for others, virtues that transcend ethnicity, reflect the American spirit, and are nobly exemplified in the Hispanic American community.

The strong ties that Hispanic Americans maintain with their ancestral homeland remind us that the United States must pursue robust relations with its trading partners in Latin America and the Caribbean. The future of our hemisphere is closely tied to these relationships, and improving trade will play a vital role in building important links with our Hispanic neighbors. Maintaining open and free trade creates job opportunities and promotes economic growth, improving the welfare of every citizen in every land it touches. Thus, we will negotiate for freer markets, which will allow us the opportunity to obtain better protections for our hemisphere's environment and will promote political freedom throughout the region.

We have a great opportunity before us. By working together, we can achieve a fully democratic hemisphere, bound together by good will, cultural understanding, and free trade. The many contributions of Hispanic Americans to our Nation will help us reach this important goal by helping connect our country with the Hispanic nations to our south. This month, we celebrate the talents, culture, and spirit of Hispanic Americans, which deeply enrich our country and bless our people.

The Congress, by Public Law 100-402, has authorized and requested the President to issue annually a proclamation designating September 15 through October 15, as “National Hispanic Heritage Month.” I am proud to do so.

NOW, THEREFORE, I, GEORGE W. BUSH, President of the United States of America, by virtue of the authority vested in me by the Constitution and laws of the United States, do hereby proclaim September 15 through October 15, 2001, as National Hispanic Heritage Month. I call upon all the people of the United States to observe this month with appropriate ceremonies and activities.

IN WITNESS WHEREOF, I have hereunto set my hand this twenty-eighth day of September, in the year of our Lord two thousand one, and of the Independence of the United States of America the two hundred and twenty-sixth.

B

[FR Doc. 01-24771

Filed 10-1-01; 8:45 am]

Billing code 3195-01-P